DEPARTMENT OF HEALTH AND HUMAN SERVICES

Health Resources and Services Administration

Ricky Ray Hemophilia Relief Fund Program; Notice of Upcoming Deadline

AGENCY: Health Resources and Services Administration, HHS.

ACTION: Notice; announcement of November 13, 2001, deadline for filing new petitions under the Ricky Ray Hemophilia Relief Fund Program.

SUMMARY: This notice announces the November 13, 2001, deadline for the filing of new petitions under the Ricky Ray Hemophilia Relief Fund Program. This Program implements the Ricky Ray Hemophilia Relief Fund Act of 1998 (the Act), Pub. Law 105-369. The Act provides for compassionate payments to certain individuals with blood-clotting disorders, such as hemophilia, who were treated with antihemophilic factor within a specified time period and contracted human immunodeficiency virus (HIV), as well as to certain persons who contracted HIV from these individuals. In the event individuals eligible for payment are deceased, the Act also provides for payments to certain survivors of these individuals.

The November 13, 2001, deadline is governed by section 105 of the Act, which states that the Secretary may not pay a petition unless it is filed within 3 years after the date of enactment of the Act, November 12, 1998.

ADDRESSES: All petitions must be submitted to the Ricky Ray Program Office, Bureau of Health Professions, Health Resources and Services Administration, Room 8A-54, Parklawn Building, 5600 Fishers Lane, Rockville, Maryland 20857.

FOR FURTHER INFORMATION CONTACT: Paul T. Clark, Program Director, Bureau of Health Professions, Health Resources and Services Administration, (301) 443-2330.

SUPPLEMENTARY INFORMATION: As stated in the Interim final rule for the Ricky Ray Hemophilia Relief Fund Program (65 FR 34860), the statute was enacted on November 12, 1998; thus, the statutory filing deadline is November 11, 2001. However, since that date falls on a Sunday and is the Veteran's Day holiday, and since November 12, 2001, is the day on which the Veteran's Day holiday is observed by the Federal Government, the deadline for filing a new petition is Tuesday, November 13, 2001. Any new petition postmarked after November 13, 2001, will not be accepted for review, and will be returned to the petitioner as ineligible for payment.

This deadline applies to petitions that have not yet been filed, as well as to petitions that have been submitted previously, but denied payment. In the latter case, the petitioner may file a new petition and submit documentation that was not included in the original petition. The deadline for filing this new petition is also November 13, 2001.

Determination of Postmark Date

To be eligible for review, a petition must be postmarked by a postal service meter by the deadline date. A legibly dated receipt from a commercial carrier or from the U.S. Postal Service accompanying the petition will be accepted in lieu of a postmark. Petitions that are postmarked by a private meter will not be accepted. To assure fairness to all petitioners regardless of their location, no hand-delivered petitions will be accepted.

If a petitioner uses a commercial carrier, the postmark date is the date affixed by the company when the petitioner deposits the petition package with the carrier. If the petitioner uses a courier service, the postmark date is the date the petitioner gives control of the package to the courier service.

Notice of Intent Does Not Satisfy Filing Deadline

In the Federal Register of March 24, 1999 (64 FR 14251), in which the procedures for filing a Notice of Intent to file a petition were described, it was stated that a Notice of Intent would satisfy the statutory filing deadline. However, as noted in the Interim final rule for the Ricky Ray Hemophilia Relief Fund Program, the Notice of Intent was to preserve the right to file in the event that sufficient funds were not appropriated in time to allow for a reasonable process for filing petitions within the statutory deadline. Since there is sufficient funding, the Program has established procedures to comply with the statutory deadline. Therefore, even if a petitioner filed a timely Notice of Intent, the petitioner still must file the petition by the November 13, 2001, deadline to establish eligibility for review. For individuals who filed a Notice of Intent, their place in queue for processing and payment will be determined by the date of submission of their petition, and will not be related to the date they filed their Notices of Intent or to the case numbers assigned to those Notices.

Deadline for Amended Petitions

When a person with HIV has filed a petition by the deadline of November 13, 2001, but dies before payment is made, an eligible survivor must file an amendment to the original petition in order to retain its assigned order number. When a survivor of a person with HIV has filed a petition or an amendment to a petition by the deadline of November 13, 2001, but dies before payment is made, the next-in-line eligible survivor must file an amendment. In addition, when multiple survivors file a petition by the deadline of November 13, 2001, and one of the survivors dies before payment is made, the other survivors must file an amendment.

As noted, an amendment to a petition must be filed in order to retain the assigned order number of the original petition and to receive payment. Under § 130.31(g)(3) of the Ricky Ray Program regulations, the deadline for filing an amended petition is the date of the Secretary's determination of eligibility or the date of payment, whichever is later. In other words, if the original petition is disapproved for payment, the deadline for filing an amended petition is the date that the petition was disapproved. Where the original petition is approved for payment, the deadline for filing an amended petition is before payment is made. No payments will be made after November 12, 2003 (the date on which the Program's authority ends).

Reconsideration of Petitions Disapproved for Payment

In accordance with § 130.40(a) of the Ricky Ray Program regulations, when a petition has been disapproved for payment, the petitioner has the right to request reconsideration of the denial. The petitioner has 60 days from the date of disapproval in which to file this request. If the Program's original determination to disapprove payment is affirmed upon reconsideration, and the petitioner has additional documentation to establish eligibility that was not submitted with the original petition, the petitioner has a right to file a new petition by November 13, 2001.

If a petition is disapproved for payment after November 13, 2001, the petitioner still retains the right to reconsideration and to have 60 days in which to file this request.

Dated: July 20, 2001.
Elizabeth M. Duke,
Acting Administrator.

[FR Doc. 01-18834 Filed 7-26-01; 8:45 am]

BILLING CODE 4165-15-P